ELECTION ASSISTANCE COMMISSION

Sunshine Act Meetings

AGENCY: Election Assistance Commission.

ACTION: Sunshine Act notice; notice of public meeting agenda.

SUMMARY: Public meeting of the U.S. Election Assistance Commission.

DATES: Tuesday, December 10, 2024; 9 a.m.-12 p.m. PT.

ADDRESSES: The meeting will be held in person at the Los Angeles County Registrar-Recorder/County Clerk's Office, Ballot Processing Center, 13401 Crossroads Pkwy. N, City of Industry, CA 91746. It will also be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct an open meeting on topics related to the 2024 elections.

Agenda: During the meeting, election officials will join the EAC's Commissioners for in-depth panel discussions on the 2024 elections. Topics include election security, contingency planning, and serving voters. EAC Commissioners will also vote on the appointment of a General Counsel pursuant to section 204 of the Help America Vote Act of 2002 (HAVA) (52 U.S.C. 20924).

The full agenda will be posted in advance on the EAC website: https://www.eac.gov.

Background: HAVA charged the EAC to serve as a national clearinghouse and resource for the compilation of information and review of procedures with respect to the administration of federal elections. This meeting will provide information on topics that arose during the 2024 elections to help inform stakeholders as well as the general public and members of the media.

Status: This meeting will be open to the public.

Camden Kelliher,
Acting General Counsel, U.S. Election Assistance Commission.

[FR Doc. 2024-27385 Filed 11-19-24; 11:15 am]

BILLING CODE 4810-71-P